DEPARTMENT OF HOUSING AND URBAN DEVELOPMENT

[Docket No. FR-7005-N-22]

60-Day Notice of Proposed Information Collection: Revitalization Area Designation and Management

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: December 21, 2018.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Ivery Himes, Director, Office of Single Family Asset Management, Department of Housing and Urban Development, 451 7th Street SW, Washington, DC 20410, telephone 202-708-1672, extension 5628 (this is not a toll-free number) or email Colette Pollard at Colette.Pollard@hud.gov. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Revitalization Area Designation and Management.

OMB Approval Number: 2502-0566.

Type of Request: Extension.

Form Number: None.

Description of the need for the information and proposed use: The Department accepts request from state, local, or tribal governments or HUD-approved Nonprofit organizations to designate a geographic area as a Revitalization Area by sending a written Requesting Letter to HUD. Revitalization Areas are intended to promote community revitalization through expanded homeownership opportunities of revitalization areas.

Respondents (i.e. affected public): State, local, or tribal governments or HUD-approved Nonprofit organizations.

Estimated Number of Respondents: 42.

Estimated Number of Responses: 42.

Frequency of Response: On occasion.

Average Hours per Response: 2.

Total Estimated Burdens: 84.

B. Solicitation of Public Comment

This notice is soliciting comments from members of the public and affected parties concerning the collection of information described in Section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: October 10, 2018.
Vance T. Morris,
Special Assistant to the Assistant Secretary for Housing—Federal Housing Commissioner.

[FR Doc. 2018-23001 Filed 10-19-18; 8:45 am]

BILLING CODE 4210-67-P